DEPARTMENT OF ENERGY

Federal Energy Regulatory Commission

Notice of FERC Staff Attendance at Meetings of Southwest Power Pool Regional State Committee and Board of Directors/Members Committee

March 21, 2006.

The Federal Energy Regulatory Commission hereby gives notice that members of its staff may attend the meetings of the Southwest Power Pool (SPP) Regional State Committee and Board of Directors/Members Committee noted below. Their attendance is part of the Commission's ongoing outreach efforts.

SPP Regional State Committee—April 24, 2006 (1 p.m.-5 p.m.) (CST).

Renaissance Hotel & Cox Convention Center, 10 North Broadway, Oklahoma City, OK 73102, 405-228-8000.

SPP Board of Directors/Members Committee—April 25, 2006 (8 a.m.-3 p.m.) (CST).

Renaissance Hotel & Cox Convention Center, 10 North Broadway, Oklahoma City, OK 73102, 405-228-8000.

The discussions may address matters at issue in the following proceedings:

Docket Nos. RT04-1 and ER04-48, Southwest Power Pool, Inc.

Docket No. ER05-109, Southwest Power Pool, Inc.

Docket No. ER05-652, Southwest Power Pool, Inc.

Docket No. ER05-799, Southwest Power Pool, Inc.

Docket No. ER05-1065, Entergy Services, Inc.

Docket No. ER05-1285, Southwest Power Pool, Inc.

Docket No. ER05-1352, Southwest Power Pool, Inc.

Docket No. ER05-1416, Southwest Power Pool, Inc.

Docket No. ER06-15, Southwest Power Pool, Inc.

Docket No. ER06-432, Southwest Power Pool, Inc.

Docket No. ER06-448, Southwest Power Pool, Inc.

Docket No. ER06-451, Southwest Power Pool, Inc.

Docket No. ER06-641, Southwest Power Pool, Inc.

Docket No. ER06-727, Southwest Power Pool, Inc.

Docket No. ER06-729, Southwest Power Pool, Inc.

The meetings are open to the public.

For more information, contact Tony Ingram, Office of Energy Markets and Reliability, Federal Energy Regulatory Commission at (501) 614-4789 or tony.ingram@ferc.gov.

Magalie R. Salas,
Secretary.

[FR Doc. E6-4462 Filed 3-27-06; 8:45 am]

BILLING CODE 6717-01-P